DEPARTMENT OF HOMELAND SECURITY

Coast Guard

[Docket No. USCG-2008-0754]

Application for Recertification of Cook Inlet Regional Citizens' Advisory Council

AGENCY: Coast Guard, DHS.

ACTION: Notice of availability; request for comments.

SUMMARY: The Coast Guard announces the availability of, and seeks comments on, the application for recertification submitted by the Cook Inlet Regional Citizen's Advisory Council (CIRCAC) for the period September 1, 2008, through August 31, 2009. Under the Oil Terminal and Tanker Environmental Oversight Act of 1990, the Coast Guard may certify, on an annual basis, an alternative voluntary advisory group in lieu of a Regional Citizens' Advisory Council for Cook Inlet, Alaska. This advisory group monitors the activities of terminal facilities and crude oil tankers under the Cook Inlet program established by the statute. The current certification for CIRCAC will expire August 31, 2008.

DATES: Public comments on CIRCAC's recertification application must reach the Seventeenth Coast Guard District on or before September 8, 2008.

ADDRESSES: Comments should be mailed to the Seventeenth Coast Guard District (dpi), P.O. Box 25517, Juneau, AK 99802-5517. Hand carried documents may be delivered to the Juneau Federal Building, 709 West 9th Street, Room 753, Juneau, AK between 8 a.m. and 4 p.m., Monday through Friday, except Federal holidays.

The Seventeenth Coast Guard District maintains the public docket for this recertification process. The application and comments regarding recertification will become part of this docket and will be available for inspection or copying at the Juneau Federal Building, 709 West 9th Street, Room 753, Juneau, AK.

A copy of the application will also be available for inspection at the CIRCAC offices at 910 Highland Avenue, Kenai, AK between the hours of 8 a.m. and 5 p.m., Monday through Friday, except Federal holidays. CIRCAC's telephone number is (907) 283-7222.

Do not use “Regulations.gov” for the online submission of comments and documents regarding this recertification. Comments and documents should be mailed or hand delivered as indicated above to the Seventeenth Coast Guard District. The docket is only available for inspection or copying as indicated above.

FOR FURTHER INFORMATION: For questions on viewing or submitting material to the docket, contact LT Ken Phillips, Seventeenth Coast Guard District (dpi), (907) 463-2821.

SUPPLEMENTARY INFORMATION:

Request for Comments

The Coast Guard encourages interested persons to submit written data, views, or arguments. We solicit comments from interested groups including oil terminal facility owners and operators, owners and operators of crude oil tankers calling at terminal facilities, and fishing, aquacultural, recreational and environmental citizens' groups, concerning the recertification application of CIRCAC. Persons submitting comments should include their names and addresses, identify this notice (USCG-2008-0754), the specific section of the document to which each comment applies, and give the reason for each comment. Please submit all comments and attachments in an unbound format, no larger than 8½ by 11 inches, suitable for copying and electronic filing. Persons wanting acknowledgement of receipt of comments should enclose a stamped, self-addressed postcard or envelope.

The Coast Guard plans no public hearing. Persons may request a public hearing by writing to Commander (dp), Seventeenth Coast Guard District, P.O. Box 25517, Juneau, AK 99802-5517. The request should include reasons why a hearing would be beneficial. If there is sufficient evidence to determine that oral presentations will aid this recertification process, the Coast Guard will hold a public hearing at a time and place announced by a later notice in the Federal Register.

Background and Purpose

The Coast Guard published guidelines on December 31, 1992 (57 FR 62600) to assist groups seeking recertification under the Oil Terminal and Oil Tanker Environmental Oversight and Monitoring Act of 1990 (33 U.S.C. 2732) (the Act). The Coast Guard issued a policy statement on July 7, 1993 (58 FR 36504) to clarify the factors that the Coast Guard would be considering in making its determination as to whether advisory groups should be certified in accordance with the Act; and the procedures which the Coast Guard would follow in meeting its certification responsibilities under the Act. Most recently, on September 16, 2002 (67 FR 58440) the Coast Guard changed its policy on recertification procedures for regional citizens' advisory councils by requiring applicants to provide comprehensive information every 3 years. For the 2 years in between, applicants only submit information describing substantive changes to the information provided at the last triennial recertification. This is the year in this triennial cycle that CIRCAC must provide comprehensive information.

At the conclusion of the comment period, September 8, 2008, the Coast Guard will review all application materials and comments received and will take one of the following actions:

(a) Recertify the advisory group under 33 U.S.C. 2732(o).

(b) Issue a conditional recertification for a period of 90 days, with a statement of any discrepancies, which must be corrected to qualify for recertification for the remainder of the year.

(c) Deny recertification of the advisory group if the Coast Guard finds that the group is not broadly representative of the interests and communities in the area or is not adequately fostering the goals and purposes of 33 U.S.C. 2732.

The Coast Guard will notify CIRCAC by letter of the action taken on their respective applications. A notice will be published in the Federal Register to advise the public of the Coast Guard's determination.

Dated: July 17, 2008,
Michael A. Neussl,
Captain, U.S. Coast Guard, Acting Commander, Seventeenth Coast Guard District.

[FR Doc. E8-18123 Filed 8-6-08; 8:45 am]

BILLING CODE 4910-15-P